DEPARTMENT OF ENERGY

Federal Energy Regulatory Commission

[Project No. 13292-001]

Whitman River Dam, Inc.; Notice of Preliminary Permit Application Accepted for Filing and Soliciting Comments, Motions To Intervene, and Competing Applications

On November 1, 2011, Whitman River Dam, Inc. filed an application for a preliminary permit, pursuant to section 4(f) of the Federal Power Act, proposing to study the feasibility of the Round Meadow Pond Hydroelectric Project (Round Meadow Project or project) to be located on the Whitman River, near Westminster, Worcester County, Massachusetts. The sole purpose of a preliminary permit, if issued, is to grant the permit holder priority to file a license application during the permit term. A preliminary permit does not authorize the permit holder to perform any land-disturbing activities or otherwise enter upon lands or waters owned by others without the owners' express permission.

The proposed project would utilize the existing Round Meadow Pond Dam and would consist of: (1) An existing 250-foot-long, 5-foot-high earthen embankment and masonry dam and spillway, (2) an existing intake structure, (3) a proposed 1,400-foot-long, 16-inch-diameter metal penstock; (4) a proposed powerhouse which would contain one generating unit with a total installed capacity of 100 kW, (5) a proposed 100-foot-long, 4.1 kV transmission line connecting to existing power lines, and (6) appurtenant facilities. The estimated annual generation of the Round Meadow Project would be 560,000 kilowatt-hours.

Applicant Contact: Mr. Robert Francis, President, Whitman River Dam, Inc., P.O. Box 145, 10 Tommy Francis Road, Westminster, MA 01473.

FERC Contact: Jeff Browning; phone: (202) 502-8677.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13292-001) in the docket number field to access the document. For assistance, contact FERC Online Support.

Dated: December 9, 2011.
Kimberly D. Bose,
Secretary.

[FR Doc. 2011-32382 Filed 12-16-11; 8:45 am]

BILLING CODE 6717-01-P